NUCLEAR REGULATORY COMMISSION

[Docket No. NRC-2012-0191]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register notice with a 60-day comment period on this information collection on September 24, 2012 (77 FR 58871).

1. Type of submission, new, revision, or extension: New.

2. The title of the information collection: NRC Reactor Vendor Registration.

3. Current OMB approval number: 3150-XXXX.

4. The form number if applicable: N/A.

5. How often the collection is required: Annually.

6. Who will be required or asked to report: Power reactor licensee and applicants, and vendors are asked to report voluntary.

7. An estimate of the number of annual responses: 192.

8. The estimated number of annual respondents: 192.

9. An estimate of the total number of hours needed annually to complete the requirement or request: 183.5.

10. Abstract: The NRC is commencing an effort to identify vendors of safety-related parts and services to nuclear power plants both directly (vendors) and indirectly (sub-vendors). For the purpose of this document, the term vendor includes supplier. The NRC licensees and applicants are responsible for the safety of facilities licensed by the NRC. As such, they are responsible for ensuring that their vendors meet applicable regulations and requirements, both technical and quality, in purchase documents. In order to ensure that licensees are meeting the regulatory requirements in this area, the NRC inspects vendors to evaluate their conformance with technical and quality requirements in part 21 of Title 10 of the Code of Federal Regulations (10 CFR), “Reporting of Defects and Noncompliance,” and Appendix B, “Quality Assurance Criteria for Nuclear Power Plants and Fuel Reprocessing Plants,” to 10 CFR Part 50, as required by procurement contracts with licensees. There is no requirement for vendors to register with the NRC. This collection will assist the NRC in assessing the number and variety of vendors of safety-related parts and services for resource and vendor inspection planning. As part of that effort, the NRC plans to (1) issue a communication to power reactor licensee and applicants requesting the voluntary submittal of vendor information and (2) create a Web page on its public Web site that allows vendor and sub-vendor information to be submitted individually. When power reactor licensee and applicants respond either by submitting their information by mail or online they will be asked to provide the following information: Vendor names, vendor addresses, vendor points of contact, vendor point of contact email address, vendor telephone number, scope of supply, and comments. Additionally, Vendors will also be able to use this Web page voluntarily to complete self registration.

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by February 22, 2013. Comments received after this date will be considered if it is practical to do so, but assurance of consideration cannot be given to comments received after this date.

Chad Whiteman, Desk Officer, Office of Information and Regulatory Affairs (3150-XXXX), NEOB-10202, Office of Management and Budget, Washington, DC 20503.

Comments can also be emailed to Chad_S_Whiteman@omb.eop.gov or submitted by telephone at 202-395-4718.

The NRC Clearance Officer is Tremaine Donnell, 301-415-6258.

Dated at Rockville, Maryland, this 16th day of January, 2013.
For the Nuclear Regulatory Commission.
Tremaine Donnell,
NRC Clearance Officer, Office of Information Services.

[FR Doc. 2013-01204 Filed 1-22-13; 8:45 am]

BILLING CODE 7590-01-P